SMALL BUSINESS ADMINISTRATION

[Disaster Declaration #15352 and #15353; CALIFORNIA Disaster Number CA-00279]

Presidential Declaration Amendment of a Major Disaster for the State of California

AGENCY: U.S. Small Business Administration.

ACTION: Amendment 3.

SUMMARY: This is an amendment of the Presidential declaration of a major disaster for the State of California (FEMA-4344-DR), dated 10/12/2017.

Incident: Wildfires.

Incident Period: 10/08/2017 and continuing.

DATES: Issued on 10/15/2017.

Physical Loan Application Deadline Date: 12/11/2017.

Economic Injury (EIDL) Loan Application Deadline Date: 07/12/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the State of California, dated 10/12/2017, is hereby amended to include the following areas as adversely affected by the disaster:

Primary Counties (Physical Damage and Economic Injury Loans): Nevada, Orange

Contiguous Counties (Economic Injury Loans Only):

California: Los Angeles, Riverside, San Bernardino, San Diego

Nevada: Washoe

All other information in the original declaration remains unchanged.

(Catalog of Federal Domestic Assistance Number 59008)

Rafaela Monchek,
Acting Associate Administrator for Disaster Assistance.

[FR Doc. 2017-22763 Filed 10-19-17; 8:45 am]

BILLING CODE 8025-01-P